DEPARTMENT OF DEFENSE

Office of the Secretary

Department of Defense Science and Technology Reinvention Laboratory (STRL) Personnel Management Demonstration (Demo) Project Program

AGENCY: Under Secretary of Defense for Research and Engineering, Department of Defense (DoD).

ACTION: Notice of amendment.

SUMMARY: On December 2, 2008, DoD published a Federal Register notice (73 FR 73248-73252, later amended by 76 FR 67154), to record amendments to the Science and Technology Reinvention Laboratory (STRL) Personnel Management Demonstration Project Plans and to provide a basic process to adopt flexibilities, make minor changes, and/or request Federal Register notices. USD(R&E) will publish the processes for adoptions, minor modifications to demonstration project flexibilities, and Federal Register notices in a DoD issuance.

DATES: This notice may be implemented beginning on March 6, 2018.

FOR FURTHER INFORMATION CONTACT: Dr. Jagadeesh Pamulapati, Director, DoD Laboratories Office, 4800 Mark Center Drive, Alexandria, VA 22350, (571) 372-6372, jagadeesh.pamulapati.civ@mail.mil.

SUPPLEMENTARY INFORMATION: Section 211 of the National Defense Authorization Act (NDAA) for Fiscal Year (FY) 2017 specified the “Discharge of Certain Authorities to Conduct Personnel Demonstration Projects” be carried out through the Under Secretary of Defense for Research and Engineering (ASD(R&E)), which makes the current processes for adoptions, minor changes and Federal Register notices obsolete. USD(R&E) will publish the processes for adoptions, minor modifications to demonstration project flexibilities, and Federal Register notices in a DoD issuance. This notice applies to all STRLs authorized by section 1105 of the NDAA for FY 2010, Public Law 111-84, as amended, as well as any newly-designated STRLs authorized by the Secretary of Defense (SECDEF) or future legislation.

Modifications

In the notice published on December 2, 2008, 73 FR 73248-73252:

1. On page 73249, in the first column, at the end of the sentence under DATES: remove “Under Secretary for Defense of Personnel and Readiness” and replace with “Under Secretary of Defense for Research and Engineering.”

2. On page 73250, in the second column, add the following at the end of the last sentence under Overview: “subject to section 4703 of Title 5 United States Code, as applicable.”

3. On page 73251, in the third column, add the following sentence after the first sentence in section D. “Section 211 of the NDAA for FY 2017 specified the “Discharge of Certain Authorities to Conduct Personnel Demonstration Projects” be carried out through the Under Secretary of Defense for Research and Engineering (who shall place an emphasis in the exercise of such authorities on enhancing efficient operations of the laboratory and who may, in exercising such authorities, request administrative support from science and technology reinvention laboratories to review, research, and adjudicate personnel demonstration project proposals).”

4. On page 73251, in the third column, add the following at the end of the third sentence in section D “will be documented, in accordance with section 4703 of Title 5 United States Code, as applicable, in a DoD issuance.”

5. On page 73251, in the third column delete the forth sentence in section D.

6. On page 73251, in the third column delete the first, second and third bullet in section D.

Dated: February 28, 2018.
Aaron Siegel,
Alternate OSD Federal Register Liaison Officer, Department of Defense.

[FR Doc. 2018-04453 Filed 3-5-18; 8:45 am]

BILLING CODE 5001-06-P